DEPARTMENT OF AGRICULTURE

DEPARTMENT OF HEALTH AND HUMAN SERVICES

Announcement of the Fifth Dietary Guidelines Advisory Committee Meeting and Solicitation of Written Comments

AGENCY: U.S. Department of Agriculture (USDA), Food, Nutrition and Consumer Services (FNCS) and Research, Education and Economics (REE); and U.S. Department of Health and Human Services (HHS), Office of Public Health and Science (OPHS).

ACTION: Notice.

SUMMARY: The Department of Agriculture (USDA) and the Department of Health and Human Services (HHS) (a) provide notice of the fifth meeting of the Dietary Guidelines Advisory Committee, and (b) solicit written comments pertinent to the Dietary Guidelines for Americans.

DATES: This Notice is provided to the public on January 22, 2010: (1) The Committee will meet on February 9, 2010, from 8 a.m.-5 p.m. E.S.T. and on February 10, 2010, from 8 a.m.-4 p.m. E.S.T. (2) Written comments pertinent to the Dietary Guidelines for Americans must be received by 5 p.m. E.S.T. on February 3, 2010, to ensure transmission to the Committee prior to this meeting. Written comments continue to be accepted throughout the Committee deliberation process.

ADDRESSES: The fifth meeting will be held online, via Webinar format. Details regarding how to assure that your Windows computer and browser are compatible with the Webinar format being used will be provided by e-mail following meeting registration and can also be found on the Dietary Guidelines Web site at http://www.DietaryGuidelines.gov. Written comments are encouraged to be submitted electronically at http://www.DietaryGuidelines.gov.

FOR FURTHER INFORMATION CONTACT: USDA Co-Executive Secretaries: Carole Davis, Designated Federal Officer to the Dietary Guidelines Advisory Committee (telephone 703-305-7600), Center for Nutrition Policy and Promotion, 3101 Park Center Drive, Room 1034, Alexandria, Virginia 22302; or Shanthy Bowman (telephone 301-504-0619), Agricultural Research Service (ARS), Beltsville Human Nutrition Research Center, 10300 Baltimore Avenue, Building 005, Room 125, BARC-WEST, Beltsville, Maryland 20705. HHS Co-Executive Secretaries: Kathryn McMurry (telephone 240-453-8280) or Holly McPeak (telephone 240-453-8280), Office of Disease Prevention and Health Promotion, Office of Public Health and Science, 1101 Wootton Parkway, Suite LL100, Rockville, Maryland 20852. Additional information is available on the Internet at http://www.DietaryGuidelines.gov.

SUPPLEMENTARY INFORMATION: Dietary Guidelines Advisory Committee: The thirteen-member Committee appointed by the Secretaries of the two Departments is chaired by Linda V. Van Horn, Ph.D., R.D., L.D., Northwestern University, Chicago, Illinois. The Vice Chair of the Committee is Naomi K. Fukagawa, M.D., Ph.D., University of Vermont, Burlington, Vermont. Other members are: Cheryl Achterberg, Ph.D., The Ohio State University, Columbus, Ohio; Lawrence J. Appel, M.D., M.P.H., Johns Hopkins Medical Institutions, Baltimore, Maryland; Roger A. Clemens, Dr.P.H, The University of Southern California, Los Angeles, California; Miriam E. Nelson, Ph.D., Tufts University, Boston, Massachusetts; Sharon M. Nickols-Richardson, Ph.D., R.D., Pennsylvania State University, University Park, Pennsylvania; Thomas A. Pearson, M.D., Ph.D., M.P.H., University of Rochester, Rochester, New York; Rafael Pérez-Escamilla, Ph.D., Yale University, New Haven, Connecticut; Xavier Pi-Sunyer, M.D., M.P.H., Columbia University College of Physicians and Surgeons, New York, New York; Eric B. Rimm, Sc.D., Harvard University, Boston, Massachusetts; Joanne L. Slavin, Ph.D., R.D., University of Minnesota, St. Paul, Minnesota; and Christine L. Williams, M.D., M.P.H., Columbia University (Retired), Healthy Directions, Inc., New York, New York.

Purpose of the Meeting: Section 301 of Public Law 101-445 (7 U.S.C. 5341, the National Nutrition Monitoring and Related Research Act of 1990, Title III) directs the Secretaries of USDA and HHS to publish the Dietary Guidelines for Americans at least every five years. After a thorough review of the most current scientific and applied literature and open Committee deliberations, the Committee will provide its recommendations in the form of an advisory report to the Secretaries of both Departments.

Meeting Agenda: The meeting will (a) allow individual subcommittees to provide updates on progress made within each subcommittee; and (b) allow for the continued formulation of plans for finalizing the Committee's work. The topics to be discussed will include Nutrient Adequacy; Energy Balance and Weight Management; Carbohydrates and Protein; Sodium, Potassium and Water; Fatty Acids and Cholesterol; Ethanol; and Food Safety. A draft agenda of the meeting will be posted to the http://www.DietaryGuidelines.gov Web site as soon as it becomes available. Specific times for topic area discussions are subject to change upon the call of the Committee Chair.

Public Participation: Members of the public are invited to attend the online Dietary Guidelines Advisory Committee meeting. There will be no opportunity for oral public comments during this online meeting. Written comments, however, are welcome throughout the development process of the 2010 Dietary Guidelines for Americans. These can be submitted at http://www.DietaryGuidelines.gov. See below for more detailed instructions for submitting written comments.

To take part in the on-line Committee meeting, individuals must pre-register at the Dietary Guidelines Web site located at http://www.DietaryGuidelines.gov. A link for Meeting Registration will be available to click on. Registration for the meeting is limited. Registrations will be accepted until maximum Webinar capacity is reached. A waiting list will be maintained should registrations exceed Webinar capacity. Individuals on the waiting list will be contacted as additional Webinar space for the meeting becomes available. Registration questions may be directed to the meeting planner, Crystal Tyler, at 202-314-4701. Registration must include name, affiliation, phone number or e-mail, and days attending. Following pre-registration, individuals will receive a confirmation of registration via e-mail with instructions on how to access the Webinar and check for computer compatibility. Please call Crystal Tyler at 202-314-4701 by 5 p.m. E.S.T. on February 3, 2010 should you require assistance or any special accommodations. Members of the public who are unable to access the Internet in order to attend the Webinar may contact Crystal Tyler at 202-314-4710 by 5 p.m. E.S.T. on February 3, 2010 for assistance to the extent reasonably practicable.

Written Comments: By this notice, the Committee is soliciting submission of written comments, views, information and data pertinent to the review of the Dietary Guidelines for Americans. Written comments are encouraged to be submitted electronically at http://www.DietaryGuidelines.gov. A “submit comments” button is available for access to the public comments database. Lengthy comments (that exceed 2000 characters) or support materials can be uploaded as an attachment. Multiple attachments must be “zip-filed”. Comments not submitted electronically can be mailed, faxed, or delivered to: Carole Davis, Co-Executive Secretary of the Dietary Guidelines Advisory Committee, Center for Nutrition Policy and Promotion, U.S. Department of Agriculture, 3101 Park Center Drive, Room 1034, Alexandria, VA 22302, 703-305-7600 (telephone), 703-305-3300 (fax). All comments for this meeting must be received by 5 p.m. E.S.T. on February 3, 2010 and will become part of the public comments database. Comments are welcome throughout the Committee's deliberations.

Public Documents: Documents pertaining to Committee deliberations will be available for public viewing from 8:30 a.m. to 4:30 p.m. E.S.T., Monday through Friday (except Federal holidays), at the Reference Desk of the National Agricultural Library, USDA/ARS, 10301 Baltimore Avenue, Beltsville, MD 20705. The Reference Desk telephone phone number is 301-504-5755; however, no advance appointment is necessary. Meeting materials (i.e., agenda, meeting minutes, and transcript), once available, can be found at http://www.DietaryGuidelines.gov.

Dated: December 14, 2009.
Rajen S. Anand,
Executive Director, Center for Nutrition Policy and Promotion, U.S. Department of Agriculture.
Dated: December 17, 2009.
Edward B. Knipling,
Administrator, Agricultural Research Service, U.S. Department of Agriculture.
Penelope Slade-Sawyer,
Deputy Assistant Secretary for Health (Disease Prevention and Health Promotion), U.S. Department of Health and Human Services.

[FR Doc. 2010-1206 Filed 1-21-10; 8:45 am]

BILLING CODE 3410-30-P